DEPARTMENT OF THE INTERIOR

Bureau of Land Management

[OR-958-1430-ET; HAG-03-0011; WAOR-57965]

Notice of Proposed Withdrawal and Opportunity for Public Meeting; Washington

AGENCY: Bureau of Land Management, Interior.

ACTION: Notice.

SUMMARY: The Bureau of Land Management proposes to withdraw approximately 276.41 acres of public lands, for a period of 20 years, to protect the unique natural, scenic, and recreation values, and the investment of Federal funds on 11 tracts in the San Juan Archipelago. This notice segregates the lands for up to 2 years from location and entry under the United States mining laws. The lands will remain open to the public land and mineral leasing laws.

DATES: Comments and requests for a public meeting must be received by September 10, 2003.

ADDRESSES: Comments and meeting requests should be sent to the Oregon/Washington State Director, BLM, P.O. Box 2965, Portland, Oregon 97208-2965.

FOR FURTHER INFORMATION CONTACT: William Schurger, Wenatchee Field Office, 509-665-2116, or, Charles R. Roy, BLM Oregon/Washington State Office, 503-808-6189.

SUPPLEMENTARY INFORMATION: The Bureau of Land Management has filed an application to withdraw the following described public lands from location and entry under the United States mining laws, subject to valid existing rights:

Willamette Meridian

Tract I (Lopez Island: Chadwick Hill/Watmough Bay):

T. 34 N., R. 1 W.,

Sec. 21, lot 1, NW¼NW¼.

Tract L (Lopez Island: Cape St. Mary):

T. 34 N., R. 1 W.,

Sec. 15, lot 1.

Tract M (Lopez Island: Lopez Pass):

T. 35 N., R. 1 W.,

Sec. 33, lot 1.

Tract N (Eliza Island: south end):

T. 36 N., R. 2 E.,

Sec. 5, unsurveyed portion of Eliza Island.

Tract O (Lummi Island: Carter Point):

T. 36 N., R. 2 E.,

Sec. 6, unsurveyed portion of Lummi Island.

Tract P (Lummi Rocks):

T. 37 N., R. 1 E.,

Sec. 27, unsurveyed Lummi Rocks in the NW¼ and SW¼NE¼.

Tract Q (Chuckanut Rock):

T. 37 N., R. 2 E.,

Sec. 24, unsurveyed Chuckanut Rock.

The portions of the following lands are more particularly identified and described by metes and bounds in the official records of the Bureau of Land Management:

Tract H (Lopez Island: NW Chadwick Hill & Wetland):

T. 34 N., R. 1 W.,

Sec. 17, m&b in SE¼.

Tract J (Lopez Island: Watmough Bay):

T. 34 N., R. 1 W.,

Sec. 21, m&b in lot 2, and SW¼NW¼.

Tract K (Lopez Island: Watmough Head & Watmough Bay):

T. 34 N., R. 1 W.,

Sec. 21, m&b in lot 2.

Tract R (west end of Patos Island):

T. 38 N., R. 2 W.,

Sec. 17, most westerly 5 acres of Patos Island.

The areas described aggregate approximately 276.41 acres in San Juan and Whatcom Counties.

All persons who wish to submit comments, suggestions, or objections in connection with the proposed withdrawal may present their views in writing, by the date specified above, to the State Director at the address indicated above.

Notice is hereby given that an opportunity for a public meeting is afforded in connection with the proposed withdrawal. All interested parties who desire a public meeting for the purpose of being heard on the proposed withdrawal must submit a written request to the State Director at the address indicated above within 90 days from the publication of this notice. Upon determination by the authorized officer that a public meeting will be held, a notice of the time and place will be published in the Federal Register at least 30 days before the scheduled date of the meeting.

The application will be processed in accordance with the regulations set forth in 43 CFR part 2300.

For a period of 2 years from the date of publication of this notice in the Federal Register, the lands will be segregated as specified above unless the application is denied or canceled or the withdrawal is approved prior to that date. The temporary land uses which may be permitted during this segregative period include licenses, permits, rights-of-way, and disposal of vegetative resources other than under the mining laws.

Dated: May 29, 2003.
Helen L. Honse,
Acting Chief, Branch of Realty and Records Services.

[FR Doc. 03-14862 Filed 6-11-03; 8:45 am]

BILLING CODE 4310-33-P